DEPARTMENT OF VETERANS AFFAIRS

38 CFR Part 17

RIN 2900-AP57

Repayment by VA of Educational Loans for Certain Psychiatrists; Correction

AGENCY: Department of Veterans Affairs.

ACTION: Final rule; correcting amendment.

SUMMARY: The Department of Veterans Affairs published in the Federal Register on September 29, 2016, a document amending its regulations concerning the repayment of educational loans for certain psychiatrists who agree to a period of obligated service with VA. The document contained several section and paragraph numbering errors. This document corrects the errors and does not make any substantive change to the content of the final rule.

DATES: Effective Date: January 17, 2017.

FOR FURTHER INFORMATION CONTACT: Crystal Cruz, Deputy Director, Healthcare Talent Management (10A2A4), Veterans Health Administration, Department of Veterans Affairs, 810 Vermont Ave. NW., Washington, DC 20420; (405) 552-4346. (This is not a toll-free number.)

SUPPLEMENTARY INFORMATION: VA published a final rule in the Federal Register on September 29, 2016, which established into regulation Public Law 114-2, the Clay Hunt Suicide Prevention for American Veterans Act (Clay Hunt SAV Act), enacted on February 12, 2015. Section 4 of this Act establishes a pilot program for the repayment of educational loans for certain psychiatrists seeking employment in VA, which will be referred to as the Program for the Repayment of Educational Loans. The document contained several section and paragraph numbering errors, which will be corrected in this document. The DATES section of the final rule incorrectly cited § 17.644 as the section that contains the collection of information. We are amending the DATES section to correctly state § 17.643 as the section that contains the collection of information. No other edits are made to the DATES section. Section 17.643 had two paragraphs that were numbered (c)(2)(ii). We are now redesignating the second paragraph (c)(2)(ii) in § 17.643 as paragraph (c)(2)(iii). No other edits are made to § 17.643. Section 17.644 did not have a paragraph (a)(3) and was, therefore, marked as reserved. We are now redesignating paragraphs (a)(4), (5), (6), (7), and (8) of § 17.644 as paragraphs (a)(3), (4), (5), (6), and (7). No other edits are made to § 17.644.

List of Subjects in 38 CFR Part 17

Administrative practice and procedure, Alcohol abuse, Alcoholism, Claims, Day care, Dental health, Drug abuse, Government contracts, Grant programs—health, Grant programs—veterans, Health care, Health facilities, Health professions, Health records, Homeless, Medical and Dental schools, Medical devices, Medical research, Mental health programs, Nursing homes, Reporting and recordkeeping requirements, Travel and transportation expenses, Veterans.

Correction

In the final rule document published on September 29, 2016, at 81 FR 66815, make the following correction:

1. On page 66815, in the first column, in the DATES section, remove “§ 17.644” and add in its place “§ 17.643” to read as follows:

DATES: Effective Date: This rule is effective on September 29, 2016, except for § 17.643 which contains information collection requirements that have not been approved by OMB. VA will publish a document in the Federal Register announcing the effective date.

For the reasons set out in the preamble, VA is correcting 38 CFR part 17 by making the following correcting amendments:

PART 17—MEDICAL

1. The authority citation for part 17 continues to read as follows:

Authority: 38 U.S.C. 501, and as noted in specific sections. Sections 17.640 and 17.647 also issued under Pub. L. 114-2, sec. 4.

Sections 17.641 through 17.646 also issued under 38 U.S.C. 501(a) and Pub. L. 114-2, sec. 4.

§ 17.643 [Amended]

2. In § 17.643, redesignate the second paragraph (c)(2)(ii) as paragraph (c)(2)(iii).

§ 17.644 [Amended]

3. In § 17.644, redesignate paragraphs (a)(4), (5), (6), (7), and (8) as paragraphs (a)(3), (4), (5), (6), and (7).

Dated: January 5, 2017.
Janet Coleman,
Chief, Regulation Policy & Management, Office of the Secretary, Department of Veterans Affairs.

[FR Doc. 2017-00232 Filed 1-13-17; 8:45 am]

BILLING CODE 8320-01-P